COMMODITY FUTURES TRADING COMMISSION

17 CFR Parts 1, 23, and 39

RIN 3038-AD51

Customer Clearing Documentation and Timing of Acceptance for Clearing; Correction

AGENCY: Commodity Futures Trading Commission.

ACTION: Notice of proposed rulemaking; Correction.

SUMMARY: This document corrects incorrect text published in the Federal Register of August 1, 2011, regarding Customer Clearing Documentation and Timing of Acceptance for Clearing.

FOR FURTHER INFORMATION CONTACT: John C. Lawton, Deputy Director and Chief Counsel, 202-418-5480, jlawton@cftc.gov, or Christopher A. Hower, Attorney-Advisor, 202-418-6703, chower@cftc.gov, Division of Clearing and Intermediary Oversight, Commodity Futures Trading Commission, Three Lafayette Centre, 1155 21st Street, NW., Washington, DC 20581.

SUPPLEMENTARY INFORMATION: In FR Doc. 2011-19365 appearing on page 45737 in the Federal Register issue of Monday, August 1, 2011, the following corrections are made:

§ 1.72 [Corrected]

On page 45737, in the left column, in § 1.72(e), the text “Prevents compliance with the time frames set forth in § 1.73(a)(9)(ii), § 23.609(a)(9)(ii),” is corrected to read, “Prevents compliance with the time frames set forth in § 1.74(b), § 23.610(b),”.

§ 23.608 [Corrected]

On page 45737, in the middle column, in § 23.608(e), the text “Prevents compliance with the time frames set forth in § 1.73(a)(9)(ii), § 23.609(a)(9)(ii),” is corrected to read, “Prevents compliance with the time frames set forth in § 1.74(b), § 23.610(b),”.

Dated: August 1, 2011.
David A. Stawick,
Secretary of the Commission.

[FR Doc. 2011-19874 Filed 8-4-11; 8:45 am]

BILLING CODE P